DEPARTMENT OF LABOR

Employment and Training Administration

[TA-W-72,743]

Ormet Primary Aluminum Corporation Including On-Site Temporary Workers, Hannibal, OH; Notice of Revised Determination on Reconsideration

By application dated March 11, 2010, a company official requested administrative reconsideration of the Department's negative determination regarding eligibility for workers and former workers of Ormet Primary Aluminum Corporation, including on-site temporary workers, Hannibal, Ohio (subject firm) to apply for Trade Adjustment Assistance.

The initial investigation, initiated November 3, 2009, resulted in a negative determination, issued on February 16, 2010, that was based on the finding that imports did not contribute importantly to worker separations at the subject firm and no shift in production to a foreign country occurred. The notice of negative determination was published in the Federal Register on March 12, 2010 (75 FR 11925).

To support the request for reconsideration, the petitioner supplied additional information regarding overall United States production, consumption, and importation of primary and secondary aluminum to supplement that which was gathered during the initial investigation.

During the reconsideration investigation, the Department of Labor examined the petitioner's allegations and obtained current aggregate data on aluminum production and imports through 2009 which was not available during the original investigation period.

An analysis of that data shows that the ratio of U.S. imports to U.S. shipments of aluminum (primary and secondary) increased significantly from 2008 to 2009, reaching a level well over 100 percent in 2009. This increased reliance on aggregate imports of aluminum contributed importantly to the layoffs at the subject facility.

Conclusion

After careful review of the additional facts obtained on reconsideration, I determine that workers of Ormet Primary Aluminum Corporation, including on-site temporary workers, Hannibal, Ohio, who were engaged in employment related to the production of primary aluminum, meet the worker group certification criteria under Section 222(a) of the Act, 19 U.S.C. 272(a). In accordance with Section 223 of the Act, 19 U.S.C. 2273, I make the following certification:

“All workers of Ormet Primary Aluminum Corporation, including on-site temporary workers, Hannibal, Ohio, who became totally or partially separated from employment on or after October 27, 2008, through two years from the date of this certification, and all workers in the group threatened with total or partial separation from employment on date of certification through two years from the date of certification, are eligible to apply for adjustment assistance under Chapter 2 of Title II of the Trade Act of 1974, as amended.”

Signed in Washington, DC, this 21st day of October, 2010.
Elliott S. Kushner,
Certifying Officer, Office of Trade Adjustment Assistance.

[FR Doc. 2010-27384 Filed 10-28-10; 8:45 am]

BILLING CODE 4510-FN-P